DEPARTMENT OF TRANSPORTATION

Federal Aviation Administration

14 CFR Part 39

[Docket No. FAA-2018-0903; Product Identifier 2018-NM-113-AD]

RIN 2120-AA64

Airworthiness Directives; Airbus SAS Airplanes

AGENCY: Federal Aviation Administration (FAA), DOT.

ACTION: Notice of proposed rulemaking (NPRM).

SUMMARY: We propose to supersede Airworthiness Directive (AD) 2016-19-14, which applies to certain Airbus SAS Model A318 and A319 series airplanes; Model A320-211, -212, -214, -231, -232, and -233 airplanes; and Model A321-111, -112, -131, -211, -212, -213, -231, and -232 airplanes. AD 2016-19-14 requires repetitive inspections for cracking of the 10VU rack fitting lugs, and repair of any cracking. Since we issued AD 2016-19-14, we have determined that the unsafe condition may exist on additional airplanes. This proposed AD continues to require repetitive inspections for cracking of the 10VU rack fitting lugs, and repair of any cracking. This proposed AD would also add airplanes to the applicability. We are proposing this AD to address the unsafe condition on these products.

DATES: We must receive comments on this proposed AD by December 20, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2018-0903; or in person at Docket Operations between 9 a.m. and 5 p.m., Monday through Friday, except Federal holidays. The AD docket contains this NPRM, the regulatory evaluation, any comments received, and other information. The street address for Docket Operations (phone 800-647-5527) is in the ADDRESSES section. Comments will be available in the AD docket shortly after receipt.

FOR FURTHER INFORMATION CONTACT: Sanjay Ralhan, Aerospace Engineer, International Section, Transport Standards Branch, FAA, 2200 South 216th St., Des Moines, WA 98198; telephone and fax 206-231-3223.

SUPPLEMENTARY INFORMATION:

Comments Invited

We invite you to send any written relevant data, views, or arguments about this proposal. Send your comments to an address listed under the ADDRESSES section. Include “Docket No. FAA-2018-0903; Product Identifier 2018-NM-113-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued AD 2016-19-14, Amendment 39-18663 (81 FR 71602, October 18, 2016) (“AD 2016-19-14”), for certain Airbus SAS Model A318 and A319 series airplanes; Model A320-211, -212, -214, -231, -232, and -233 airplanes; and Model A321-111, -112, -131, -211, -212, -213, -231, and -232 airplanes. AD 2016-19-14 requires repetitive inspections for cracking of the 10VU rack fitting lugs, and repair of any cracking. AD 2016-19-14 resulted from a report of cracks found during maintenance inspections on certain 10VU rack fitting lugs. We issued AD 2016-19-14 to address reading difficulties of flight-critical information displayed to the flightcrew during a critical phase of flight, such as an approach or takeoff, which could result in loss of airplane control at an altitude insufficient for recovery.

Actions Since AD 2016-19-14 Was Issued

AD 2016-19-14 applies to the identified airplane models on which Airbus Modification 35869 has not been embodied in production. Since we issued AD 2016-19-14, we have determined that the unsafe condition may also exist on airplanes in a post-Airbus Modification 35869 configuration.

The European Aviation Safety Agency (EASA), which is the Technical Agent for the Member States of the European Union, has issued EASA AD 2018-0131, dated June 19, 2018 (referred to after this as the Mandatory Continuing Airworthiness Information, or “the MCAI”), to correct an unsafe condition for all Airbus SAS Model A318 and A319 series airplanes; A320-211, -212, -214, -216, -231, -232, and -233 airplanes; and A321-111, -112, -131, -211, -212, -213, -231, and -232 airplanes. The MCAI states:

During an unscheduled maintenance operation on an A330 aeroplane, the 10VU rack was removed for access and cracks were discovered on 10VU rack side fittings on lugs 1, 3 and 4. As a similar design is installed on A320 family aeroplanes, a sampling review was done to determine the possible fleet impact. The result showed that several aeroplanes had cracked or broken 10VU rack side fittings.

This condition, if not detected and corrected, could lead to a high vibration level on the primary flight and navigation displays during critical flight phases (take-off and landing), possibly creating reading difficulties for the crew.

Prompted by these findings, Airbus developed mod 35869 to reinforce the affected rack fitting lugs. For in-service aeroplanes, Airbus published SB [service bulletin] A320-92-1087 to provide detailed inspection (DET) and repair instructions. Consequently, EASA AD 2015-0170 [which corresponds to FAA AD 2016-19-14] was issued to require, for all pre mod 35869 aeroplanes, repetitive DET of the affected 10VU rack fitting lugs and, depending on findings, accomplishment of a repair.

Since that [EASA] AD was issued, analysis confirmed the need to extend the inspection to post mod 35869 aeroplanes. Airbus issued SB A320-92-1119 providing instructions for DET and repair of those aeroplanes accordingly. Airbus developed mod 157335 to further reinforce and adjust the affected rack fitting lugs. Analysis is still ongoing to confirm mod 157335 as terminating action for the requirements of this [EASA] AD, and further AD action may follow.

For the reason described above, this [EASA] AD retains the requirements of EASA AD 2015-0170, which is superseded, expanding the Applicability to include post mod 35869 aeroplanes, and requiring, for all aeroplanes, repetitive DET of the affected 10VU rack fitting lugs and, depending on findings, accomplishment of a repair [and reporting positive and negative findings to Airbus].

You may examine the MCAI in the AD docket on the internet at http://www.regulations.gov by searching for and locating Docket No. FAA-2018-0903.

Model A320-216 Airplanes

The Airbus SAS Model A320-216 was type certificated on December 19, 2016. Before that date, any EASA ADs that affected Model A320-216 airplanes were included on the Required Airworthiness Actions List (RAAL). One or more Model A320-216 airplanes have subsequently been placed on the U.S. Register, and will now be included in FAA AD actions. For Model A320-216 airplanes, the requirements that correspond to AD 2014-20-04 were mandated by the MCAI via the RAAL. Although that RAAL requirement is still in effect, for continuity and clarity we have identified Model A320-216 airplanes in paragraph (c) of this AD; the requirements of paragraphs (g) through (i) in this proposed AD would therefore apply to those airplanes.

Related Service Information Under 1 CFR Part 51

Airbus has issued Service Bulletins A320-92-1087, Revision 03, dated July 31, 2017; and A320-92-1119, dated July 28, 2017. This service information describes procedures for repetitive inspections for cracking of the 10VU rack fitting lugs, and repair of any cracking. These documents are distinct since they apply to airplanes in different configurations. This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of This NPRM

This proposed AD would retain all of the requirements of AD 2016-19-14 and expand the applicability to include additional airplanes. This proposed AD would require accomplishing the actions specified in the service information described previously except as discussed under “Differences Between this Proposed AD and the MCAI or Service Information.” This proposed AD also would require sending the inspection results to Airbus SAS.

Differences Between This Proposed AD and the MCAI or Service Information

This proposed AD would not permit further flight if cracks are detected in any 10VU rack fitting lug, but the MCAI permits flight for a limited time if cracking is detected in a single 10VU rack fitting lug. We have determined that, because of the safety implications and consequences associated with that cracking, any cracked 10VU rack fitting lug must be repaired before further flight. This difference has been coordinated with the EASA.

Costs of Compliance

We estimate that this proposed AD affects 461 airplanes of U.S. registry. We estimate the following costs to comply with this proposed AD:

Estimated Costs
Labor cost | Parts cost | Cost per product | Cost on U.S. operators
2 work-hours × $85 per hour = $170 | $0 | $170 | $78,370

We estimate that it would take about 1 work-hour per product to comply with the reporting requirement in this proposed AD. The average labor rate is $85 per hour. Based on these figures, we estimate the cost of reporting the inspection results on U.S. operators to be $85 per product.

We estimate the following costs to do any necessary repairs that would be required based on the results of the proposed inspection. We have no way of determining the number of aircraft that might need these repairs:

Estimated Costs of On-Condition Actions
Labor cost | Parts cost | Cost per product
83 work-hours × $85 per hour = $7,055 | $9,140 | $16,195

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2016-19-14, Amendment 39-18663 (81 FR 71602, October 18, 2016), and adding the following new AD:

Airbus SAS: Docket No. FAA-2018-0903; Product Identifier 2018-NM-113-AD.

(a) Comments Due Date

We must receive comments by December 20, 2018.

(b) Affected ADs

This AD replaces AD 2016-19-14, Amendment 39-18663 (81 FR 71602, October 18, 2016) (“AD 2016-19-14”).

(c) Applicability

This AD applies to the Airbus SAS airplanes identified in paragraphs (c)(1) through (c)(4) of this AD, certificated in any category, all manufacturer serial numbers.

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 92, Electric and Electronic Common Installation.

(e) Reason

This AD was prompted by a report of cracks found during maintenance inspections on certain 10VU rack fitting lugs. We are issuing this AD to address reading difficulties of flight-critical information displayed to the flightcrew during a critical phase of flight, such as an approach or takeoff, which could result in loss of airplane control at an altitude insufficient for recovery.

(f) Compliance

Comply with this AD within the compliance times specified, unless already done.

(g) Definitions

For the purpose of this AD, Group 1 airplanes are in a pre-Airbus Modification 35869 configuration, and Group 2 airplanes are in a post-Airbus Modification 35869 configuration.

(h) Repetitive Inspections

(1) For Group 1 airplanes: At the later of the times specified in table 1 to paragraph (h)(1) of this AD, and thereafter at intervals not to exceed 20,000 flight cycles or 40,000 flight hours, whichever occurs first, do a detailed inspection for cracking of the 10VU rack fitting lugs, in accordance with the Accomplishment Instructions of Airbus Service Bulletin A320-92-1087, Revision 03, dated July 31, 2017.

Table 1 to Paragraph (h)(1) of This AD—Initial Inspection Compliance Time for Group 1 Airplanes
Compliance time (whichever occurs later, A or B)
A | Prior to exceeding 30,000 total flight cycles or 60,000 total flight hours.
B | Within 24 months after November 22, 2016 (the effective date of AD 2016-19-14).

(2) For Group 2 airplanes: At the later of the times specified in paragraphs (h)(2)(i) and (h)(2)(ii) of this AD, and thereafter at intervals not to exceed 20,000 flight cycles or 40,000 flight hours, whichever occurs first, do a detailed inspection for cracking of the 10VU rack fitting lugs, in accordance with the Accomplishment Instructions of Airbus Service Bulletin A320-92-1119, dated July 28, 2017.

(i) Prior to exceeding 30,000 total flight cycles or 60,000 total flight hours, whichever occurs first.

(ii) Within 30 days after the effective date of this AD.

(i) Repair

If any crack is found during any inspection required by paragraph (h)(1) or (h)(2) of this AD: Before further flight, do a repair in accordance with the Accomplishment Instructions of Airbus Service Bulletin A320-92-1087, Revision 03, dated July 31, 2017 (for Group 1 airplanes); or Service Bulletin A320-92-1119, dated July 28, 2017 (for Group 2 airplanes); as applicable. Repair of a 10VU rack fitting lug does not terminate the repetitive inspections required by paragraphs (h)(1) and (h)(2) of this AD.

(j) Reporting

At the applicable time specified in paragraph (j)(1) or (j)(2) of this AD: Submit a report of findings (positive and negative) of each inspection required by paragraph (h) of this AD to Airbus Service Bulletin Reporting Online Application on Airbus World (https://w3.airbus.com/), or submit the results to Airbus in accordance with the instructions of Airbus Service Bulletin A320-92-1087, Revision 03, dated July 31, 2017 (for Group 1 airplanes); or Service Bulletin A320-92-1119, dated July 28, 2017 (for Group 2 airplanes); as applicable. Where Figure A-FAAAA, Sheet 02, of Appendix 01, “Inspection Report,” of Airbus Service Bulletin A320-92-1087, Revision 03, dated July 31, 2017; and Figure A-FAAAA, Sheet 02, of Appendix 01, “Inspection Report,” of Service Bulletin A320-92-1119, dated July 28, 2017; specifies sending removed lugs to Airbus for investigation, this AD does not include that requirement.

(1) If the inspection was done on or after the effective date of this AD: Submit the report within 90 days after the inspection.

(2) If the inspection was done before the effective date of this AD: Submit the report within 90 days after the effective date of this AD.

(k) Credit for Previous Actions

This paragraph provides credit for actions required by paragraphs (h)(1) and (i) of this AD if those actions were performed before the effective date of this AD using Airbus Service Bulletin A320-92-1087, Revision 02, dated November 25, 2014.

(l) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES-200.

(m) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA Airworthiness Directive 2018-0131, dated June 19, 2018, for related information. This MCAI may be found in the AD docket on the internet at http://www.regulations.gov by searching for and locating Docket No. FAA-2018-0903.

(2) For more information about this AD, contact Sanjay Ralhan, Aerospace Engineer, International Section, Transport Standards Branch, FAA, 2200 South 216th St., Des Moines, WA 98198; telephone and fax 206-231-3223.

(3) For service information identified in this AD, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195.

Issued in Des Moines, Washington, on October 22, 2018.
Michael Kaszycki,
Acting Director, System Oversight Division, Aircraft Certification Service.

[FR Doc. 2018-23689 Filed 11-2-18; 8:45 am]

BILLING CODE 4910-13-P